SECURITIES AND EXCHANGE COMMISSION

Sunshine Act Meetings

TIME AND DATE: Notice is hereby given, pursuant to the provisions of the Government in the Sunshine Act, Public Law 94-409, that the Securities and Exchange Commission will hold an Open Meeting on Wednesday, November 2, 2022 at 10:00 a.m.

PLACE: The meeting will be webcast on the Commission's website at www.sec.gov.

STATUS: This meeting will begin at 10:00 a.m. (ET) and will be open to the public via webcast on the Commission's website at www.sec.gov.

MATTERS TO BE CONSIDERED:

1. The Commission will consider whether to adopt form amendments to enhance the information registered management investment companies report about their proxy votes. The Commission will also consider whether to adopt a new rule and form amendments to require institutional investment managers subject to section 13(f) of the Securities Exchange Act of 1934 to report proxy votes relating to certain executive compensation matters, as required by section 14A of the Exchange Act.

2. The Commission will consider whether to propose amendments to rules and forms for open-end management investment companies related to liquidity risk management programs, swing pricing, and other pricing requirements. The amendments the Commission will consider also include reporting and disclosure requirements for certain registered investment companies, including open-end funds (other than money market funds), registered closed-end funds, and unit investment trusts.

CONTACT PERSON FOR MORE INFORMATION: For further information and to ascertain what, if any, matters have been added, deleted or postponed, please contact Vanessa A. Countryman from the Office of the Secretary at (202) 551-5400.

Authority: 5 U.S.C. 552b.

Dated: October 26, 2022.
Vanessa A. Countryman,
Secretary.

[FR Doc. 2022-23677 Filed 10-26-22; 4:15 pm]

BILLING CODE 8011-01-P